DEPARTMENT OF ENERGY

Federal Energy Regulatory Commission

[Docket No. IN13-15-000]

BP America Inc., BP Corporation North America Inc., BP America Production Company, BP Energy Company; Updated Notice of Designation of Commission Staff as Non-Decisional

With respect to orders issued by the Commission in the above-captioned docket, with the exceptions noted below, the staff of the Office of Enforcement are designated as non-decisional in deliberations by the Commission in this docket. Accordingly, pursuant to 18 CFR 385.2202 (2022), they will not serve as advisors to the Commission or take part in the Commission's review of any offer of settlement. Likewise, as non-decisional staff, pursuant to 18 CFR 385.2201 (2022), they are prohibited from communicating with advisory staff concerning any deliberations in this docket.

Exceptions to this designation as non-decisional are:

Grace Kwon

Laura Vallance

Jennifer Gordon

Joseph Cleaver

Dated: January 13, 2023.
Kimberly D. Bose,
Secretary.

[FR Doc. 2023-01060 Filed 1-19-23; 8:45 am]

BILLING CODE 6717-01-P